DEPARTMENT OF HOUSING AND URBAN DEVELOPMENT

[Docket No. FR-5415-N-35]

Notice of Availability: Notice of Funding Availability (NOFA) for HUD's Fiscal Year (FY) 2010 Rural Innovation Fund Program

AGENCY: Office of the Chief of the Human Capital Officer, HUD.

ACTION: Notice.

SUMMARY: HUD announces the availability on its Web site of the applicant information, submission deadlines, funding criteria, and other requirements for HUD's FY 2010 Rural Innovation Fund Program NOFA. Specifically, this NOFA announces the availability of approximately $25 million made available under the Consolidated Appropriations, 2010, in Rural Innovation grant funds, along with unobligated and unused funds remaining for the Rural Fund's predecessor program, the Rural Housing and Economic Development (RHED) program appropriated by the Department of Housing and Urban Development Appropriations Act, 2009, and prior appropriations Acts. In total, this NOFA announces the availability of approximately $25.75 million in funding. The purpose of this program NOFA is to fund local rural nonprofit organizations, community development corporations, federally recognized Indian tribes, state housing finance agencies (HFAs), and state economic development and community development agencies (including consortia of such entities) with demonstrated capacity to undertake comprehensive projects that address the problems of concentrated rural housing distress and community poverty.

The notice providing information regarding the application process, funding criteria and eligibility requirements can be found using the Department of Housing and Urban Development agency link on the Grants.gov/Find Web site at http://www.grants.gov/search/agency.do. A link to Grants.gov is also available on the HUD Web site at http://www.hud.gov/offices/adm/grants/fundsavail.cfm. The Catalogue of Federal Domestic Assistance (CFDA) number for this program is 14.263. Applications must be submitted electronically through Grants.gov.

FOR FURTHER INFORMATION CONTACT: Questions regarding specific program requirements should be directed to the agency contact identified in the program NOFA. Program staff will not be available to provide guidance on how to prepare the application. Questions regarding the 2010 General Section should be directed to the Office of Grants Management and Oversight at (202) 708-0667 or the NOFA Information Center at 800-HUD-8929 (toll free). Persons with hearing or speech impairments may access these numbers via TTY by calling the Federal Information Relay Service at 800-877-8339.

Dated: December 28, 2010.
Barbara S. Dorf,
Director, Office of Departmental Grants Management and Oversight, Office of the Chief of the Human Capital Officer.

[FR Doc. 2010-33218 Filed 1-3-11; 8:45 am]

BILLING CODE 4210-67-P